DEPARTMENT OF COMMERCE

National Oceanic and Atmospheric Administration

[RTID 0648-XF460]

Pacific Fishery Management Council; Public Meeting

AGENCY: National Marine Fisheries Service (NMFS), National Oceanic and Atmospheric Administration (NOAA), Commerce.

ACTION: Notice of public meeting.

SUMMARY: The Pacific Fishery Management Council (Pacific Council) will hold a meeting of its Ad Hoc Highly Migratory Species (HMS) Fisheries Innovation Workgroup (FIW) to discuss procedures to facilitate the development of new HMS gears and achieve the goals of the HMS Roadmap. This meeting is open to the public.

DATES: The meeting will be held Thursday, January 29 through Friday, January 30, 2026. The meeting will start each day at 8:30 a.m. and conclude at 5 p.m. Pacific Standard Time or until business for the day has been completed.

ADDRESSES: The meeting will be held in the Stenella Room of the Southwest Fisheries Science Center (SWFSC), 8901 La Jolla Shores Drive, La Jolla, California. Phone: (858) 546-7000. The meeting will not be broadcast. Specific meeting information will be provided in the meeting announcement on the Pacific Council's website (see https://www.pcouncil.org). You may send an email to Mr. Kris Kleinschmidt (kris.kleinschmidt@pcouncil.org) or contact him at 503-820-2412 for technical assistance.

Council address: Pacific Fishery Management Council, 7700 NE Ambassador Place, Suite 101, Portland, Oregon 97220-1384.

FOR FURTHER INFORMATION CONTACT: Kerry Griffin, Pacific Council; telephone: 503-820-2409.

SUPPLEMENTARY INFORMATION: The purposes of this meeting are to (1) finalize recommended metrics and benchmarks for evaluating performance of exempted fishing permit (EFP) activities, (2) finalize recommendations for EFP guidance, and (3) develop recommended modifications to Pacific Council Operating Procedure 20 (consideration of HMS EFPs). The FIW will develop a report for consideration at the March 2026 Pacific Council meeting.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

This meeting will take place in a Federal facility. Visitors who are foreign nationals (defined as a person who is not a citizen or national of the United States) will require additional security clearance to access the SWFSC. Foreign national visitors should contact Kara Koehrn (Kara.Koehrn@noaa.gov; (858) 546-5651) at least 2 weeks prior to the meeting date to initiate the security clearance process.

Starting on January 1, 2026, Federal facilities (including leased facilities) will only accept REAL ID-compliant forms of identification. Visitors with state-issued identification must now present a REAL ID or a different form of government-issued photo identification, such as:

• A passport.

• An Enhanced Driver's License.

• A Federal employee, military, or veteran identification card.

(This list is not all-inclusive.)

At this time, mobile driver's licenses are not authorized for acceptance at any Department-occupied facility in place of REAL ID compliant credentials.

Special Accommodations

Requests for sign language interpretation or other auxiliary aids should be directed to Mr. Kris Kleinschmidt (kris.kleinschmidt@pcouncil.org; 503-820-2412) at least 10 days prior to the meeting date.

(Authority: 16 U.S.C. 1801 et seq.)

Dated: January 8, 2026.
Rey Israel Marquez,
Acting Deputy Director, Office of Sustainable Fisheries, National Marine Fisheries Service.

[FR Doc. 2026-00431 Filed 1-12-26; 8:45 am]

BILLING CODE 3510-22-P